DEPARTMENT OF TRANSPORTATION

Federal Aviation Administration

Notice Before Waiver With Respect to Land at Hamilton Municipal Airport, Hamilton, NY

AGENCY: Federal Aviation Administration (FAA), DOT.

ACTION: Notice of intent of waiver with respect to land.

SUMMARY: The FAA is publishing notice of the proposed release of approximately 3.966 acres of land located at Hamilton Municipal Airport, to allow its sale for non-aviation development. The parcel was part of the airport property acquired with federal funding support under the Airport Improvement Program. The Village of Hamilton proposes to sell the land to a developer who will develop it as a 63-room motel.

FAA's action is to release the land from a deed provision requiring aeronautical use of the property. The Village of Hamilton has stated that it has no aeronautical use for the parcel now or in the near future according to the Hamilton Municipal Airport Layout Plan.

The Fair Market Value of the land will be paid to the Village of Hamilton to be used for the capital development of Hamilton Municipal Airport.

Any comments the agency receives will be considered as a part of the decision.

DATES: Comments must be received on or before December 26, 2003.

ADDRESSES: Comments on this application may be mailed or delivered in triplicate to the FAA at the following address: Philip Brito, Manager, FAA New York Airports District Office, 600 Old Country Road, Suite 446, Garden City, New York 11530.

In addition, one copy of any comments submitted to the FAA must be mailed or delivered to Mr. Charles Getchonis, Mayor, Hamilton, New York, at the following address: Mr. Charles Getchonis, Mayor, Village of Hamilton, P.O. Box 119, 3 Broad Street, Hamilton, New York 13346.

FOR FURTHER INFORMATION CONTACT: Mr. Philip Brito, Manager, New York Airports District Office, 600 Old Country Road, Suite 446, Garden City, New York 11530; telephone (516) 227-3803; FAX (516) 227-3813; e-mail Philip.Brito@faa.gov.

SUPPLEMENTARY INFORMATION: On April 5, 2000, new authorizing legislation became effective. That bill, the Wendell H. Ford Aviation Investment and Reform Act for the 21st Century, Pub. L. 10-181 (Apr. 5, 2000; 114 Stat. 61) (AIR 21) requires that a 30 day public notice must be provided before the Secretary may waive any condition imposed on an interest in surplus property.

Issued in Garden City, New York, on November 14, 2003.
Philip Brito,
Manager, New York Airports District Office, Eastern Region.

[FR Doc. 03-29457 Filed 11-25-03; 8:45 am]

BILLING CODE 4910-13-M